SMALL BUSINESS ADMINISTRATION

Annual Meeting of the Regional Small Business Regulatory Fairness Boards Office of the National Ombudsman

AGENCY: U.S. Small Business Administration (SBA).

ACTION: Notice of open meeting of the Regional Small Business Regulatory Fairness Boards.

SUMMARY: The SBA, Office of the National Ombudsman is issuing this notice to announce the location, date, time and agenda for the annual board meeting of the ten Regional Small Business Regulatory Fairness Boards. The meeting is open to the public.

DATES: The meeting will be held on: Tuesday, August 29, 2017, from 8:30 a.m. to 5:00 p.m. EDT and Wednesday, August 30, 2017, from 8:30 a.m. to 12:00 p.m. EDT.

ADDRESSES: The meeting will be held at Patriots Plaza One, 395 E. Street SW., Hearing Room, lobby level, Washington, DC 20201. **A valid photo identification is required to enter the building.

FOR FURTHER INFORMATION CONTACT: The meeting is open to the public; however advance notice of attendance is requested. Anyone wishing to attend and/or make a presentation to the Regional Regulatory Fairness Boards must contact Elahe Zahirieh, Case Management Specialist, by August 21, 2017, in writing at the Office of the National Ombudsman, 409 3rd Street SW., Suite 5116, Washington, DC 20416, by phone (202) 205-2417, by fax (202) 481-5719 or email ombudsman@sba.gov. Additionally, if you need accommodations because of a disability, translation services, or require additional information, please contact Elahe Zahirieh as well.

SUPPLEMENTARY INFORMATION: Pursuant to the Small Business Regulatory Enforcement Fairness Act (Pub. L. 104-121), Sec. 222, SBA announces the meeting of the Regional Small Business Regulatory Fairness Boards (Regional Regulatory Fairness Boards). The Regional Regulatory Fairness Boards are tasked to advise the National Ombudsman on matters of concern to small businesses relating to enforcement activities of Federal agencies and to report on substantiated instances of excessive Federal enforcement actions against small business concerns, including any findings or recommendations of the Regional Regulatory Fairness Board regarding agency enforcement practice or policy.

The purpose of the meeting is to discuss the following topics related to the Regional Regulatory Fairness Boards:

—Introduction of the Regional Regulatory Fairness Board members and the staff of the Office of the National Ombudsman

—Panel Discussion with Federal Agency Representatives

—Facilitated discussion of ongoing small business regulatory issues

—FY2016 Outcomes and comments regarding the Annual Report to Congress

—Office of Advocacy regulatory review

—SBA update and future outreach planning

For more information on the Office of the National Ombudsman, please visit our Web site at www.sba.gov/ombudsman.

Dated: July 21, 2017.
Richard W. Kingan,
Acting SBA Committee Management Officer.

[FR Doc. 2017-16004 Filed 7-28-17; 8:45 am]

BILLING CODE P